DEPARTMENT OF TRANSPORTATION

Federal Aviation Administration

14 CFR Part 39

[Docket No. FAA-2012-0108; Directorate Identifier 2011-NM-049-AD]

RIN 2120-AA64

Airworthiness Directives; The Boeing Company Airplanes

AGENCY: Federal Aviation Administration (FAA), DOT.

ACTION: Supplemental notice of proposed rulemaking (NPRM); reopening of comment period.

SUMMARY: We are revising an earlier proposed airworthiness directive (AD) for certain The Boeing Company Model 767 airplanes. The NPRM proposed to supersede AD 2003-13-01, which currently requires an inspection to detect cracks and fractures of the outboard hinge fitting assemblies on the trailing edge of the inboard main flap, and follow-on and corrective actions if necessary. For certain airplanes, AD 2003-13-01 also requires inspecting to determine if a tool runout option has been performed in the area. The NPRM proposed to reduce a certain compliance time and adds airplanes to the applicability. The NPRM also provided optional terminating action for certain inspections. The NPRM was prompted by reports of hinge assembly fractures found before certain required compliance times in AD 2003-13-01. This action revises the NPRM by reducing repetitive inspection intervals for certain airplanes and limiting the inspection area. We are proposing this supplemental NPRM (SNPRM) to prevent the inboard aft flap from separating from the wing and potentially striking the airplane, which could result in damage to the surrounding structure and potential personal injury. Since these actions impose an additional burden over that proposed in the NPRM, we are reopening the comment period to allow the public the chance to comment on these proposed changes.

DATES: We must receive comments on this SNPRM by November 13, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2012-0108; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Berhane Alazar, Aerospace Engineer, Airframe Branch, ANM-120S, FAA, Seattle Aircraft Certification Office, 1601 Lind Avenue SW., Renton, WA 98057-3356; phone: 425-917-6577; fax: 425-917-6590; email: berhane.alazar@faa.gov.

SUPPLEMENTARY INFORMATION:

Comments Invited

We invite you to send any written relevant data, views, or arguments about this proposed AD. Send your comments to an address listed under the ADDRESSES section. Include “Docket No. FAA-2012-0108; Directorate Identifier 2011-NM-049-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued an NPRM to amend 14 CFR part 39 by adding an AD that would apply to certain The Boeing Company Model 767-200, -300, and -300F, and -400ER series airplanes. The NPRM published in the Federal Register on February 9, 2012 (77 FR 6685). The NPRM proposed to supersede AD 2003-13-01, Amendment 39-13201 (68 FR 37402, June 24, 2003). The NPRM proposed to continue to require an inspection to detect cracks and fractures of the outboard hinge fitting assemblies on the trailing edge of the inboard main flap, and follow-on and corrective actions if necessary; and, for certain airplanes, a one-time inspection to determine if a tool runout option has been performed in the area. The NPRM also reduced compliance times on certain airplanes (Model 767-400ER series airplanes), revised the applicability, and added an optional terminating action.

Actions Since Previous NPRM (77 FR 6685, February 9, 2012) Was Issued

Since we issued the NPRM (77 FR 6685, February 9, 2012), we have received reports of hinge assembly fractures found before the current inspection interval on Model 767-200, -300, and -300F series airplanes.

Comments

We gave the public the opportunity to comment on the NPRM (77 FR 6685, February 9, 2012). The following presents the comments received on the NPRM and the FAA's response to each comment.

Support for the NPRM (77 FR 6685, February 9, 2012)

An anonymous commenter supported the NPRM (77 FR 6685, February 9, 2012).

Request To Revise Applicability

American Airlines requested that we revise the applicability of the NPRM (77 FR 6685, February 9, 2012) to identify specific flap serial numbers instead of airplane line numbers. The commenter stated that a flap removed from the hinge assembly could then be installed on a different airplane.

We partially agree. We agree that the subject flaps are rotable parts that may be removed and reinstalled on different airplanes after compliance with the AD. We have therefore added new paragraph (q) in this SNPRM (and redesignated subsequent paragraphs) to prohibit installation of an inboard main flap unless it has been inspected and repaired in accordance with the requirements of this SNPRM. But we do not agree to change the applicability as requested because this AD action applies to the airplane, not a component.

Since the flight cycles on the flaps may not be tracked by some operators, we mandated a compliance time tied to the total flight cycles of the airplane. Operators may request approval of an alternative compliance time, however, if the actual accumulated flight cycles on reinstalled flaps are known.

Request To Specify Additional Airplanes Subject to Repetitive Inspection Requirement

Boeing noted that paragraph (n) of the NPRM (77 FR 6685, February 9, 2012) specifies repetitive detailed and/or eddy current inspections for Model 767-400ER series airplanes. Boeing requested that we revise paragraph (n) of the NPRM to add the following revised service information: Boeing Alert Service Bulletin 767-57A0076, Revision 3, dated April 4, 2012 (for Models 767-200, -300, and -300F airplanes); and Boeing Alert Service Bulletin 767-57A0079, Revision 2, dated March 23, 2012 (for Model 767-400ER series airplanes). Boeing noted that this revised service information improves crack detection by clarifying the HFEC inspection area, based on a recent finding of a crack located along the edge of the inspection area on a Model 767-300 series airplane. We infer that Boeing wants us to revise paragraph (n) of the NPRM to add Model 767-200, -300, and -300F series airplanes.

In addition, paragraph (o) of the NPRM (77 FR 6685, February 9, 2012) specifies a new optional terminating action. Boeing requested that we revise that paragraph to include terminating action for Model 767-200, -300, and -300F series airplanes (in addition to Model 767-400ER series airplanes), and to refer to Boeing Alert Service Bulletins 767-57A0076, Revision 3, dated April 4, 2012; and 767-57A0079, Revision 2, dated March 23, 2012.

Further, Boeing requested that we revise paragraph (p) of the NPRM (77 FR 6685, February 9, 2012) to provide credit for previous actions done using Boeing Service Bulletin 767-57A0076, Revision 2, dated November 22, 2006; and Boeing Service Bulletin 767-57A0079, Revision 1, dated May 6, 2010.

We agree with the requests, for the reasons provided by the commenter. We have revised paragraphs (n) and (o) in this SNPRM to add the referenced airplanes and service information. For information on the procedures and compliance times, see Boeing Alert Service Bulletin 767-57A0076, Revision 3, dated April 4, 2012; and 767-57A0079, Revision 2, dated March 23, 2012; at http://www.regulations.gov by searching for and locating Docket No. FAA-2012-0108.

We also have revised paragraph (p) of this SNPRM to provide credit for Boeing Service Bulletin 767-57A0076, Revision 2, dated November 22, 2006; and Boeing Service Bulletin 767-57A0079, Revision 1, dated May 6, 2010. We have determined that accomplishment of the actions specified in this revised service information before the effective date of the AD would provide an adequate level of safety.

Request for Approval of AMOCs

Boeing, American Airlines, and UPS requested that AMOCs previously approved for paragraph (i) of AD 2003-13-01, Amendment 39-13201 (68 FR 37402, June 24, 2003), be considered acceptable for compliance with the requirements of paragraphs (g), (h), and (i) of the NPRM (77 FR 6685, February 9, 2012).

We agree. We have determined that the referenced AMOCs would provide an adequate level of safety. We have included this provision in new paragraph (r)(4) of this SNPRM.

FAA's Determination

We are proposing this SNPRM because we evaluated all the relevant information and determined the unsafe condition described previously is likely to exist or develop in other products of the same type design. Certain changes described above expand the scope of the NPRM (77 FR 6685, February 9, 2012). As a result, we have determined that it is necessary to reopen the comment period to provide additional opportunity for the public to comment on this SNPRM.

Proposed Requirements of This SNPRM

This SNPRM would require accomplishing the actions specified in Boeing Alert Service Bulletin 767-57A0076, Revision 3, dated April 4, 2012; and 767-57A0079, Revision 2, dated March 23, 2012.

Costs of Compliance

We estimate that this proposed AD affects 440 airplanes of U.S. registry. We estimate the following costs to comply with this proposed AD:

Estimated Costs
Action | Labor cost | Parts cost | Cost per product | Cost on U.S. operators
Retained detailed inspections | 10 work-hours × $85 per hour = $850 per inspection cycle | $0 | $850 per inspection cycle | $374,000 per inspection cycle.
Retained detailed and eddy current inspections | 13 work-hours × $85 per hour = $1,105 per inspection cycle | $0 | $1,105 per inspection cycle | $486,200 per inspection cycle.

We estimate the following costs to do any necessary replacements that would be required based on the results of the proposed inspection. We have no way of determining the number of aircraft that might need these replacements:

On-Condition Costs
Action | Labor cost | Parts cost | Cost per product
Replacement | 32 work-hours × $85 per hour = $2,720 | $45,400 | $48,120

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by adding the following new airworthiness directive (AD):

The Boeing Company: Docket No. FAA-2012-0108; Directorate Identifier 2011-NM-049-AD.

(a) Comments Due Date

We must receive comments by November 13, 2014.

(b) Affected ADs

This AD replaces AD 2003-13-01, Amendment 39-13201 (68 FR 37402, June 24, 2003).

(c) Applicability

This AD applies to The Boeing Company airplanes, certificated in any category, identified in paragraphs (c)(1) and (c)(2) of this AD.

(1) Model 767-200, -300, and -300F series airplanes, as specified in Boeing Service Bulletin 767-57A0076, Revision 3, dated April 4, 2012.

(2) Model 767-400ER series airplanes, as specified in Boeing Alert Service Bulletin 767-57A0079, Revision 2, dated March 23, 2012.

(d) Subject

Air Transport Association (ATA) of America Code 57, Wings.

(e) Unsafe Condition

This AD was prompted by reports of hinge assembly fractures found before certain required compliance times on certain airplanes subject to AD 2003-13-01, Amendment 39-13201 (68 FR 37402, June 24, 2003). We are issuing this AD to prevent the inboard aft flap from separating from the wing and potentially striking the airplane, which could result in damage to the surrounding structure and potential personal injury.

(f) Compliance

Comply with this AD within the compliance times specified, unless already done.

(g) Retained Inspection

This paragraph restates the requirements of paragraph (a) of AD 2003-13-01, Amendment 39-13201 (68 FR 37402, June 24, 2003), with revised service information. Perform either a detailed inspection, or a detailed inspection plus an eddy current inspection, of the outboard hinge fitting assemblies on the trailing edge of the inboard main flap to detect cracks and fractures and evidence of a tool runout option, as applicable. For the purposes of this AD, a detailed inspection is defined as an intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.

(1) For Model 767-200, -300, and -300F series airplanes identified in Boeing Service Bulletin 767-57A0076, Revision 1, dated March 29, 2001: Inspect before the airplane accumulates 2,700 total flight cycles, or within 90 days after July 29, 2003 (the effective date of AD 2003-13-01, Amendment 39-13201 (68 FR 37402, June 24, 2003)), whichever occurs later, in accordance with Boeing Service Bulletin 767-57A0076, Revision 1, dated March 29, 2001; or Boeing Service Bulletin 767-57A0076, Revision 3, dated April 4, 2012. As of the effective date of this AD, only Boeing Service Bulletin 767-57A0076, Revision 3, dated April 4, 2012, may be used for the inspection.

(2) For Model 767-400ER series airplanes identified in Boeing Alert Service Bulletin 767-57A0079, dated June 20, 2002: Inspect before the airplane accumulates 12,000 total flight cycles, except as required by paragraph (m) of this AD, in accordance with Boeing Alert Service Bulletin 767-57A0079, dated June 20, 2002; or Boeing Alert Service Bulletin 767-57A0079, Revision 1, dated May 6, 2010; or Boeing Alert Service Bulletin 767-57A0079, Revision 2, dated March 23, 2012. As of the effective date of this AD, only Boeing Alert Service Bulletin 767-57A0079, Revision 2, dated March 23, 2012, may be used for the inspection.

(h) Retained Follow-On/Corrective Actions

This paragraph restates the requirements of paragraph (b) of AD 2003-13-01, Amendment 39-13201 (68 FR 37402, June 24, 2003), with revised service information. Following the initial inspections required by paragraph (g) of this AD, perform applicable follow-on and corrective actions at the times specified in Figure 1 of Boeing Service Bulletin 767-57A0076, Revision 1, dated March 29, 2001 (for Model 767-200, -300, and -300F series airplanes); or Boeing Alert Service Bulletin 767-57A0079, dated June 20, 2002 (for Model 767-400ER series airplanes); until the initial inspection required by paragraph (n) of this AD is accomplished and repeat thereafter at the applicable times specified in paragraph (n) of this AD. Do the follow-on and corrective actions (including repetitive inspections and replacement of the fittings with new fittings) in accordance with Part 1 or Part 2 of Boeing Service Bulletin 767-57A0076, Revision 1, dated March 29, 2001; or Boeing Service Bulletin 767-57A0076, Revision 3, dated April 4, 2012 (for Model 767-200, -300, and -300F series airplanes); or Boeing Alert Service Bulletin 767-57A0079, dated June 20, 2002, or Boeing Alert Service Bulletin 767-57A0079, Revision 2, dated March 23, 2012 (for Model 767-400ER series airplanes); except as required by paragraph (i)(2) of this AD. For Model 767-200, -300, and -300F series airplanes: If the fitting has the tool runout, and no cracking or fracture is found during the inspection, this AD requires no further action for that hinge fitting. As of the effective date of this AD, for the actions required by this paragraph, only Boeing Alert Service Bulletin 767-57A0079, Revision 2, dated March 23, 2012, may be used for Model 767-400ER series airplanes; and only Boeing Alert Service Bulletin 767-57A0076, Revision 3, dated April 4, 2012, may be used for Model 767-200, -300, and -300F airplanes.

(i) Retained Exceptions to Service Bulletin Procedures

This paragraph restates the requirements of paragraph (c) of AD 2003-13-01, Amendment 39-13201 (68 FR 37402, June 24, 2003). The following exceptions specified in paragraphs (i)(1) and (i)(2) of this AD apply.

(1) Where the terminating action in Part 3 of Boeing Service Bulletin 767-57A0076, Revision 1, dated March 29, 2001; and Revision 3, dated April 4, 2012; and Boeing Alert Service Bulletin 767-57A0079, dated June 20, 2002; Revision 1, dated May 6, 2010; and Revision 2, dated March 23, 2012; as applicable; is specified as corrective action, this AD requires that the terminating action, if required, be accomplished before further flight.

(2) Boeing Service Bulletin 767-57A0076, Revision 1, dated March 29, 2001; and Revision 3, dated April 4, 2012; specify to contact Boeing before the terminating action is done as corrective action for any cracking or fracture found on a Model 767-200, -300, or -300F series airplane with the tool runout. However, this AD requires that any such crack or fracture on those airplanes be repaired in accordance with Part 3 of Boeing Service Bulletin 767-57A0076, Revision 1, dated March 29, 2001; or Revision 3, dated April 4, 2012. This AD does not require a report.

(j) Retained Optional Terminating Action

This paragraph restates the provisions of paragraph (f) of AD 2003-13-01, Amendment 39-13201 (68 FR 37402, June 24, 2003), with revised service information. Unless required to do so by paragraph (h) of this AD, operators may choose to accomplish the terminating action (including replacement of the fittings with new fittings, and reinstallation of existing upper skin access panels and fairing midsections on the trailing edge of the main flap) in accordance with Part 3 of the Work Instructions of Boeing Service Bulletin 767-57A0076, Revision 1, dated March 29, 2001; or Boeing Alert Service Bulletin 767-57A0079, dated June 20, 2002; as applicable; or do the terminating actions specified in paragraph (o) of this AD. As of the effective date of this AD, use only the terminating action specified in paragraph (o) of this AD. Accomplishment of the terminating action terminates the repetitive inspection requirements of paragraph (h) of this AD.

(k) Parts Installation Limitations

As of the effective date of this AD, no person may install on any airplane identified in paragraph (c) of this AD, a hinge fitting assembly that has P/N 113T2271-13, 113T2271-14, 113T2271-23, 113T2271-24, 113T2271-29, 113T2271-30, 113T2271-33, 113T2271-34, 113T2271-401, or 113T2271-402, unless the applicable requirements of this AD have been accomplished for that fitting.

(l) Retained Credit for Previous Actions

This paragraph restates the provisions of paragraph (g) of AD 2003-13-01, Amendment 39-13201 (68 FR 37402, June 24, 2003), with revised service information. Actions done before July 29, 2003 (the effective date of AD 2003-13-01), in accordance with Boeing Alert Service Bulletin 767-57A0076, dated October 26, 2000, are acceptable for compliance with the corresponding requirements of paragraphs (g)(1), (h), and (j) of this AD. Boeing Alert Service Bulletin 767-57A0076, dated October 26, 2000 is not incorporated by reference in this AD.

(m) New Initial Inspection

For Model 767-400ER airplanes identified in Boeing Alert Service Bulletin 767-57A0079, Revision 2, dated March 23, 2012, on which the inspection required in paragraph (g) of this AD has not been done as of the effective date of this AD: Before the accumulation of 6,000 total flight cycles, or within 750 flight cycles after the effective date of this AD, whichever occurs later, perform either a detailed inspection or a detailed inspection plus an eddy current inspection to detect cracks or fractures of the outboard hinge fitting assemblies on the trailing edge of the inboard main flap, in accordance with the Accomplishment Instructions of Boeing Alert Service Bulletin 767-57A0079, Revision 2, dated March 23, 2012 Accomplishment of this inspection terminates the inspection requirement of paragraph (g)(2) of this AD. If any cracking or fracture is found, before further flight, replace the fittings in accordance with Part 3 of the Work Instructions of Boeing Alert Service Bulletin 767-57A0079, Revision 2, dated March 23, 2012.

(n) New Repetitive Inspections

Repeat either inspection specified in paragraph (h) or (m) of this AD, as applicable, at intervals not to exceed the time specified in paragraph (n)(1) or (n)(2) of this AD, as applicable, in accordance with the Accomplishment Instructions of Boeing Alert Service Bulletin 767-57A0076, Revision 3, dated April 4, 2012 (for Model 767-200, -300, and -300F series airplanes); or Boeing Alert Service Bulletin 767-57A0079, Revision 2, dated March 23, 2012 (for Model 767-400ER series airplanes); until the actions specified in paragraph (o) of this AD are done.

(1) If the most recent inspection was a detailed inspection: Do the next inspection within 300 flight cycles after doing the detailed inspection, and continue to repeat the inspection(s) thereafter at the time specified in paragraph (n) of this AD.

(2) If the most recent inspections were a detailed inspection and an eddy current inspection: Do the next inspections at the applicable time specified in paragraph (n)(2)(i) or (n)(2)(ii) of this AD, and continue to repeat the inspection(s) thereafter at the time specified in paragraph (n) of this AD.

(i) For Model 767-200, -300, and -300F series airplanes: Do the next inspection at the applicable time specified in paragraph (n)(2)(i)(A) or (n)(2)(i)(B) of this AD.

(A) If the detailed inspection and eddy current inspection were done before the effective date of this AD: Do the next inspection within 1,500 flight cycles after doing the detailed and eddy current inspections.

(B) If the detailed inspection and eddy current inspection were done on or after the effective date of this AD: Do the next inspection within 750 flight cycles after doing the detailed and eddy current inspection.

(ii) For Model 767-400ER series airplanes: Do the next inspection within 750 flight cycles after doing the detailed inspection and eddy current inspection.

(o) New Optional Terminating Action

Replacement of the fittings in accordance with Part 3 of the Work Instructions of Boeing Alert Service Bulletin 767-57A0079, Revision 2, dated March 23, 2012 (for Model 767-400ER series airplanes); or Part 3 of the Work Instructions of Boeing Alert Service Bulletin 767-57A0076, Revision 3, dated April 4, 2012 (for Model 767-200, -300, and -300F series airplanes); terminates the repetitive inspections required by paragraphs (h) and (n) of this AD.

(p) Credit for Previous Actions

(1) Actions done before the effective date of this AD in accordance with the service information identified in paragraph (p)(1)(i) or (p)(1)(ii) of this AD are acceptable for compliance with the corresponding requirements of paragraphs (h), (n), and (o) of this AD.

(i) Boeing Alert Service Bulletin 767-57A0076, Revision 1, dated March 29, 2001, which is incorporated by reference in AD 2003-13-01, Amendment 39-13201 (68 FR 37402, June 24, 2003); or Boeing Alert Service Bulletin 767-57A0076, Revision 2, dated November 22, 2006, which is not incorporated by reference in this AD.

(ii) Boeing Alert Service Bulletin 767-57A0079, dated June 20, 2002, which is incorporated by reference in AD 2003-13-01, Amendment 39-13201 (68 FR 37402, June 24, 2003); and Boeing Alert Service Bulletin 767-57A0079, Revision 1, dated May 6, 2010, which is not incorporated by reference in this AD.

(2) Actions done before the effective date of this AD in accordance with the service information identified in paragraph (p)(2)(i) or (p)(2)(ii) of this AD are acceptable for compliance with the corresponding requirements of paragraph (j) of this AD.

(i) Boeing Alert Service Bulletin 767-57A0076, Revision 2, dated November 22, 2006, which is not incorporated by reference in this AD.

(ii) Boeing Alert Service Bulletin 767-57A0079, Revision 1, dated May 6, 2010, which is not incorporated by reference in this AD.

(q) Parts Installation Limitation

As of the effective date of this AD, no person may install an inboard main flap on any airplane, unless the flap has been inspected and all applicable corrective actions have been performed in accordance with the requirements of this AD.

(r) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (s)(1) of this AD. Information may be emailed to 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(4) AMOCs approved previously in accordance with AD 2003-13-01, Amendment 39-13201 (68 FR 37402, June 24, 2003), are approved as AMOCs for the corresponding provisions of paragraphs (g), (h), and (i) of this AD.

(s) Related Information

(1) For more information about this AD, contact Berhane Alazar, Aerospace Engineer, Airframe Branch, ANM-120S, FAA, Seattle Aircraft Certification Office, 1601 Lind Avenue SW., Renton, WA 98057-3356; phone: 425-917-6577; fax: 425-917-6590; email: berhane.alazar@faa.gov.

(2) For service information identified in this AD, contact Boeing Commercial Airplanes, Attention: Data & Services Management, P.O. Box 3707, MC 2H-65, Seattle, WA 98124-2207; telephone 206-544-5000, extension 1; fax 206-766-5680; Internet https://www.myboeingfleet.com. You may view copies of the referenced service information at the FAA, Transport Airplane Directorate, 1601 Lind Avenue SW., Renton, WA. For information on the availability of this material at the FAA, call 425-227-1221.

Issued in Renton, Washington, on September 19, 2014.
Michael Kaszycki,
Acting Manager, Transport Airplane Directorate, Aircraft Certification Service.

[FR Doc. 2014-23138 Filed 9-26-14; 8:45 am]

BILLING CODE 4910-13-P